NUCLEAR REGULATORY COMMISSION

[NRC-2025-0044]

Information Collection: NRC Forms 542 and 542A, Uniform Low-Level Radioactive Waste Manifest Index and Regional Compact Tabulation and Continuation Page

AGENCY: Nuclear Regulatory Commission.

ACTION: Renewal of existing information collection; request for comment.

SUMMARY: The U.S. Nuclear Regulatory Commission (NRC) invites public comment on the renewal of Office of Management and Budget (OMB) approval for an existing collection of information. The information collection is entitled, NRC Forms 542 and 542A, “Uniform Low-Level Radioactive Waste Manifest Index and Regional Compact Tabulation and Continuation Page.”

DATES: Submit comments by February 9, 2026. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2025-0044. Address questions about Docket IDs in Regulations.gov to Bridget Curran; telephone: 301-415-1003; email: Bridget.Curran@nrc.gov. For technical questions, contact the individual(s) listed in the FOR FURTHER INFORMATION CONTACT section of this document.

• Mail comments to: Heather Dempsey, Office of the Chief Information Officer, Mail Stop: T-6 A10M, U.S. Nuclear Regulatory Commission, Washington, DC 20555-0001.

For additional direction on obtaining information and submitting comments, see “Obtaining Information and Submitting Comments” in the SUPPLEMENTARY INFORMATION section of this document.

FOR FURTHER INFORMATION CONTACT: Heather Dempsey, Office of the Chief Information Officer, U.S. Nuclear Regulatory Commission, Washington, DC 20555-0001; telephone: 301-415-0856; email: Infocollects.Resource@nrc.gov.

SUPPLEMENTARY INFORMATION:

I. Obtaining Information and Submitting Comments

A. Obtaining Information

Please refer to Docket ID NRC-2025-0044 when contacting the NRC about the availability of information for this action. You may obtain publicly available information related to this action by any of the following methods:

• Federal Rulemaking Website: Go to https://www.regulations.gov and search for Docket ID NRC-2025-0044. A copy of the collection of information and related instructions may be obtained without charge by accessing Docket ID NRC-2025-0044 on this website.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. A copy of the NRC Forms 542 and 542A and related instructions may be obtained without charge by accessing ADAMS Accession Nos. ML25167A156, and ML25167A157, respectively and ML20178A433 (NUREG-BR-0204, Revision 3). The supporting statement is available in ADAMS under Accession Nos. ML25167A153.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting the NRC's Acting Clearance Officer, Heather Dempsey, Office of the Chief Information Officer, U.S. Nuclear Regulatory Commission, Washington, DC 20555-0001; telephone: 301-415-0856 email: Infocollects.Resource@nrc.gov.

B. Submitting Comments

The NRC encourages electronic comment submission through the Federal rulemaking website (https://www.regulations.gov). Please include Docket ID NRC-2025-0044, in your comment submission.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the NRC, then you should inform those persons not to include identifying or contact information that they do not want to be publicly disclosed in their comment submission. Your request should state that comment submissions are not routinely edited to remove such information before making the comment submissions available to the public or entering the comment into ADAMS.

II. Background

In accordance with the Paperwork Reduction Act of 1995 (44 U.S.C. Chapter 35), the NRC is requesting public comment on its intention to request the OMB's approval for the information collection summarized as follows.

1. The title of the information collection: NRC Forms 542 and 542A, “Uniform Low-Level Radioactive Waste Manifest Index and Regional Compact Tabulation and Continuation Page.”

2. OMB approval number: 3150-0165.

3. Type of submission: Extension.

4. The form number, if applicable: NRC Forms 542 and 542A.

5. How often the collection is required or requested: NRC Form 542 and 542A, or the Agreement State equivalent forms are required when low-level radioactive waste (LLRW) is shipped by waste collectors and waste processors, for ultimate disposal at a licensed LLRW disposal facility.

6. Who will be required or asked to respond: NRC Form 542 and continuation Form 542A are completed by waste collectors and waste processors who ship LLRW for ultimate disposal at a licensed LLRW disposal facility.

7. The estimated number of annual responses: 623.

8. The estimated number of annual respondents: 71.

9. The estimated number of hours needed annually to comply with the information collection requirement or request: 467.

10. Abstract: The NRC regulations in section 20.2006 of title 10 of the Code of Federal Regulations (10 CFR), “Transfer for Disposal and Manifest” and 10 CFR part 20, appendix G, “Requirements for Transfers of Low-Level Radioactive Waste Intended for Disposal at Licensed Land Disposal Facilities and Manifests,” established requirements for a nationwide system to ensure the safe and efficient transportation and disposal of LLRW. The Uniform LLRW Manifest system is implemented by the utilization of specific NRC forms to document the information required by 10 CFR 20.2006 and 10 CFR part 20, appendix G. The NRC Forms 542/542A, “Uniform LLRW Manifest Index and Regional Compact Tabulation and Continuation Page,” combined with NRC Forms 540/540A, “Uniform LLRW Manifest (Shipping Paper) and Continuation Page” and NRC Forms 541/541A, “Uniform LLRW Manifest Container and Waste Description and Continuation Page,” are collectively referred to as the Uniform LLRW Manifest Forms. The forms were originally developed by the NRC at the request of low-level waste industry groups, and Federal and State agencies. These forms assist in providing a standardized nationwide framework for collecting and transmitting LLRW related information from generation to disposal.

The NRC Forms 542 and 542A or Agreement State equivalent forms are used on a nationwide basis to reflect the minimum safety related information for an LLRW shipment as required by Federal and State reporting requirements for the safe transportation and disposal of LLRW. The forms are completed by waste processors and waste collectors of LLRW that are shipping LLRW received from various waste generators to a licensed LLRW facility for disposal. The NRC Forms 542 and 542A are used to attribute LLRW to the original waste generator for regional waste compact tabulation in accordance with the LLRW Policy Amendments Act of 1985. This information includes generator identification number, generator's name, phone number, address, manifest number, and description of the waste. The Uniform LLRW Manifest Forms 542/542A are not required to physically accompany the shipment. Upon agreement between the shipper and consignee, NRC Form 542/542A are (1) mailed or electronically transferred to the intended consignee prior to the shipment arriving at the consignee; or (2) delivered with the waste to the consignee. The NUREG/BR-0204, Revision 3, contains instructions for completing NRC Uniform LLRW Manifest Forms.

As stated in 10 CFR part 20, appendix G, “Licensees need not use originals of these NRC forms as long as any substitute forms are equivalent to the original documentation in respect to content, clarity, size, and location of information . . .” The NRC previously noticed the availability of revisions to the Uniform LLRW Manifest Forms in the Federal Register on November 23, 2022 (87 FR 71699). The information collection contained in the current extension request does not include any changes to the forms.

III. Specific Requests for Comments

The NRC is seeking comments that address the following questions:

1. Is the proposed collection of information necessary for the NRC to properly perform its functions? Does the information have practical utility? Please explain your answer.

2. Is the estimate of the burden of the information collection accurate? Please explain your answer.

3. Is there a way to enhance the quality, utility, and clarity of the information to be collected?

4. How can the burden of the information collection on respondents be minimized, including the use of automated collection techniques or other forms of information technology?

Dated: December 5, 2025.
For the Nuclear Regulatory Commission.
Heather Dempsey,
NRC Acting Clearance Officer, Office of the Chief Information Officer.

[FR Doc. 2025-22420 Filed 12-9-25; 8:45 am]

BILLING CODE 7590-01-P